INTERNATIONAL TRADE COMMISSION

[Inv. No. 337-TA-455]

In the Matter of Certain Network Interface Cards and Access Points for Use in Direct Sequence Spread Spectrum Wireless Local Area Networks and Products Containing Same; Notice of Decision to Affirm Two Initial Determinations Granting Intervention but Denying Respondent Status

AGENCY: U.S. International Trade Commission.

ACTION: Notice.

SUMMARY: Notice is hereby given that the U.S. International Trade Commission has determined to adopt two initial determinations (“IDs”) (Orders Nos. 12 and 13) issued by the presiding administrative law judge (ALJ) in the above-captioned investigation, granting the motions of Intersil Corporation (“Intersil”) and Agere Systems, Inc. (“Agere”), respectively, to intervene, but denying the parties respondent status. The Commission has also issued an opinion clarifying its views on intervention.

FOR FURTHER INFORMATION CONTACT: Michael Liberman, Esq., Office of the General Counsel, U.S. International Trade Commission, 500 E Street, SW., Washington, DC 20436, telephone (202) 205-3115. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS-ON-LINE) at http://dockets.usitc.gov/eol/public.

SUPPLEMENTARY INFORMATION: The Commission instituted this investigation on April 9, 2001, based on a complaint filed by Proxim, Inc. (“Proxim”) against 14 entities other than Intersil or Agere. The notice of investigation was published in the Federal Register on April 9, 2001. 66 FR 18507. The complaint alleges violations of section 337 of the Tariff Act of 1930 in the importation into the United States, sale for importation, and/or sale within the United States after importation of certain wireless network interface cards and access points by reason of infringement of certain U.S. patents owned by Proxim. On April 16, 2001, Intersil and Agere each filed separate motions to intervene as respondents in the investigation.

Proxim filed a response to Intersil's motion in which it opposed the intervention of Intersil as a respondent, but did not object if Intersil was permitted to become a party to the investigation as an intervenor. The Commission investigative attorney (“IA”) supported intervention of Intersil as an intervenor, but not as a respondent.

Proxim and the IA did not oppose intervention of Agere. However, Proxim noted that Agere failed to state why it should be considered a respondent rather than an intervenor and, therefore, Proxim saw no reason to designate Agere as a respondent. The IA supported intervention of Agere as an intervenor, but opposed granting Agere respondent status.

On May 8, 2001, and on May 15, 2001, the ALJ issued two IDs (Orders Nos. 12 and 13) allowing Intersil and Agere, respectively, to become intervenors in the present investigation, but denying Intersil and Agere respondent status. On May 18, 2001, Intersil filed a petition for review of Order No. 12. No party petitioned for review of Order No.13. On June 15, 2001, the Commission determined to review both IDs because they affected Commission policy.

The authority for the Commission's determination is contained in section 337 of the Tariff Act of 1930, as amended (19 U.S.C. 1337), and in section 210.45 of the Commission's Rules of Practice and Procedure (19 CFR 210.45).

Issued: July 9, 2001.
By order of the Commission.
Donna R. Koehnke,
Secretary.

[FR Doc. 01-17502 Filed 7-12-01; 8:45 am]

BILLING CODE 7020-02-P